DEPARTMENT OF DEFENSE

Department of the Army

32 CFR Part 636

[Docket ID: USA-2018-HQ-0006]

RIN 0702-AA90

Motor Vehicle Traffic Supervision (Specific Installations)

AGENCY: Department of the Army, DoD.

ACTION: Final rule.

SUMMARY: This final rule removes DoD's regulation concerning the use of motor vehicles on specific military installations. This part conveys Army policy and procedures duplicated in 32 CFR part 634, and it is unnecessary.

DATES: This rule is effective on May 29, 2018.

FOR FURTHER INFORMATION CONTACT: Daniel Perkins at 703-614-3309.

SUPPLEMENTARY INFORMATION: It has been determined that publication of this CFR part removal for public comment is impracticable, unnecessary, and contrary to public interest since it is based on content which is duplicated in 32 CFR part 634.

DoD internal guidance will continue to be published in Army Regulation 190-5, “Motor Vehicle Traffic Supervision,” available at https://armypubs.army.mil/ProductMaps/PubForm/AR.aspx.

This rule is not significant under Executive Order (E.O.) 12866, “Regulatory Planning and Review,” therefore, E.O. 13771, “Reducing Regulation and Controlling Regulatory Costs” does not apply.

List of Subjects in 32 CFR Part 636

Federal buildings and facilities, Traffic regulations.

PART 636—[REMOVED]

Accordingly, by the authority of 5 U.S.C. 301, 32 CFR part 636 is removed.

Dated: May 22, 2018.
Brenda S. Bowen,
Army Federal Register Liaison Officer.

[FR Doc. 2018-11396 Filed 5-25-18; 8:45 am]

BILLING CODE 5001-03-P